NATIONAL AERONAUTICS AND SPACE ADMINISTRATION

[Notice: (16-013)]

NASA Advisory Council; Institutional Committee; Meeting.

AGENCY: National Aeronautics and Space Administration.

ACTION: Notice of meeting.

SUMMARY: In accordance with the Federal Advisory Committee Act (Public Law 92-463), the National Aeronautics and Space Administration announces a meeting of the Institutional Committee of the NASA Advisory Council (NAC). This committee reports to the NAC.

DATES: Wednesday, March 16, 2016, 9:00 a.m.-5:00 p.m., Local Time; and Thursday, March 17, 2016, 9:00 a.m.-4:30 p.m.; Local Time.

ADDRESSES: NASA Headquarters, Room 4L39, 300 E Street SW., Washington, DC 20546.

FOR FURTHER INFORMATION CONTACT: Mr. Todd Mullins, NAC Institutional Committee Executive Secretary, NASA Headquarters, Washington, DC 20546; phone: (202) 358-3831 or todd.mullins@nasa.gov.

SUPPLEMENTARY INFORMATION: The meeting will be open to the public up to the seating capacity of the room. This meeting is also available telephonically and by WebEx. You must use a touch-tone phone to participate in this meeting. Any interested person may dial the toll free access number (844) 467-6272 or toll access number (720) 259-6462, and then the numeric participant passcode: 180093 followed by the # sign. To join via WebEx on March 16, the web link is https://nasa.webex.com/, the meeting number is 997 565 923 and the password is Meeting2016! (Password is case sensitive.) To join via WebEx on March 17, the link is https://nasa.webex.com/, the meeting number is 992 877 827 and the password is Meeting2016! (Password is case sensitive.) Note: If dialing in, please “mute” your telephone. The agenda for the meeting includes the following topics:

• Business Systems Assessment (BSA) Status

• Mission Support Budget

• NASA IT Security

• NAC Institutional Committee Work Plan

Attendees will be requested to sign a register and to comply with NASA Headquarters security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Illinois, Minnesota, Missouri, New Mexico and Washington. Foreign nationals attending this meeting will be required to provide a copy of their passport and visa in addition to providing the following information no less than 10 working days prior to the meeting: full name; gender; date/place of birth; citizenship; visa information (number, type, expiration date); passport information (number, country, expiration date), employer/affiliation information (name of institution, address, country, telephone); title/position of attendee; and home address to Ms. Mary Dunn, via email at mdunn@nasa.gov or by telephone at (202) 358-2789. U.S. citizens and Permanent Residents (green card holders) are requested to submit their name and affiliation 3 working days prior to the meeting to Ms. Mary Dunn via email or fax as noted above. It is imperative that the meeting be held on this date to accommodate the scheduling priorities of the key participants.

Patricia D. Rausch,
Advisory Committee Management Officer, National Aeronautics and Space Administration.

[FR Doc. 2016-02813 Filed 2-10-16; 8:45 am]

BILLING CODE 7510-13-P